DEPARTMENT OF HEALTH AND HUMAN SERVICES

Administration for Children and Families

Proposed Information Collection Activity; Phase II Evaluation Activities for Implementing a Next Generation Evaluation Agenda for the Chafee Foster Care Program for Successful Transition to Adulthood—Extension (OMB #0970-0489)

AGENCY: Office of Planning, Research, and Evaluation, Administration for Children and Families, HHS.

ACTION: Request for public comment.

SUMMARY: The Administration for Children and Families (ACF) at the U.S. Department of Health and Human Services (HHS) requests an extension to continue data collection for the Phase II Evaluation Activities for Implementing a Next Generation Evaluation Agenda for the Chafee Foster Care Program for Successful Transition to Adulthood (OMB #0970-0489; Previously titled: Phase II Evaluation Activities for Implementing a Next Generation Evaluation Agenda for the Chafee Foster Care Independence Program). Information collection activities requested include interviews, focus group discussions and administrative data collection. There are no changes proposed to the currently approved materials.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION:

Description: The ACF, Office of Planning, Research, and Evaluation (OPRE) requests public comment on a proposed extension to a currently approved information collection for the Chafee Foster Care Program for Successful Transition to Adulthood (previously known as the Chafee Foster Care Independence Program). Activities include preliminary visits to discuss the evaluation process with program administrators and site visits to each program to speak with program leaders, partners and key stakeholders, front-line staff, and participants. These formative evaluations will determine programs' readiness for more rigorous evaluation in the future. The activities and products from this project will help ACF to fulfill the ongoing legislative mandate for program evaluation specified in the Foster Care Independence Act of 1999.

Respondents: Semi-structured interviews will be held with program leaders, partners and stakeholders, and front-line staff as well as young adults being served by the programs.

Annual Burden Estimates
Instrument | Number of respondents (total over request period) | Number of responses per respondent (total over request period) | Avg. burden per response (in hours) | Total burden (in hours) | Annual burden (in hours)
Outreach email for discussion with program administrators and staff | 38 | 1 | 8 | 304 | 152
Outreach email for Focus Group Recruiters | 96 | 1 | 8 | 768 | 384
Discussion Guide for program leaders | 23 | 1 | 1 | 23 | 12
Discussion Guide for program partners and stakeholders | 14 | 1 | 1 | 14 | 7
Discussion Guide for program front-line staff | 66 | 1 | 1 | 66 | 33
Focus Group Guide for program participants | 240 | 1 | 2 | 480 | 240

Estimated Total Annual Burden Hours: 828.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-E of the Social Security Act, IV-E § 477(g) (1-2), as amended by the Foster Care Independence Act of 1999.

Mary B. Jones,
ACF/OPRE Certifying Officer.

[FR Doc. 2021-01086 Filed 1-15-21; 8:45 am]

BILLING CODE 4184-73-P